DEPARTMENT OF HOMELAND SECURITY

Federal Emergency Management Agency

[Docket ID FEMA-2007-0008]

National Advisory Council; Meeting

AGENCY: Federal Emergency Management Agency, DHS.

ACTION: Committee Management; Notice of Federal Advisory Committee meeting.

SUMMARY: The Federal Emergency Management Agency (FEMA) National Advisory Council (NAC) will meet in person on May 10, 11, and 12, 2016 in San Antonio, TX. The meeting will be open to the public.

DATES: The NAC will meet on Tuesday, May 10, 2016, from 9:00 a.m. to 2:30 p.m., on Wednesday, May 11, 2016 from 8:30 a.m. to 5:30 p.m., and on Thursday, May 12 from 8:30 a.m. to 10:20 a.m. Central Daylight Time (CDT). Please note that the meeting may close early if the NAC has completed its business.

ADDRESSES: The meeting will be held at The Menger Hotel located at 204 Alamo Plaza in San, Antonio, TX 78205. It is recommended that attendees register with FEMA prior to the meeting by providing your name, telephone number, email address, title, and organization to the person listed in FOR FURTHER INFORMATION CONTACT below.

For information on facilities or services for individuals with disabilities or to request special assistance at the meeting, contact the person listed in FOR FURTHER INFORMATION CONTACT below as soon as possible.

To facilitate public participation, members of the public are invited to provide written comments on the issues to be considered by the NAC. The “Agenda” section below outlines these issues. Written comments must be submitted and received by 5:00 p.m. CDT on May 9, 2016, identified by Docket ID FEMA-2007-0008, and submitted by one of the following methods:

• Federal eRulemaking Portal: http://www.regulations.gov. Follow the instructions for submitting comments.

• Email: FEMA-RULES@fema.dhs.gov. Include the docket number in the subject line of the message.

• Fax: (540) 504-2331.

• Mail: Regulatory Affairs Division, Office of Chief Counsel, FEMA, 500 C Street SW., Room 8NE, Washington, DC 20472-3100.

Instructions: All submissions received must include the words “Federal Emergency Management Agency” and the docket number for this action. Comments received will be posted without alteration at http://www.regulations.gov, including any personal information provided.

Docket: For access to the docket to read comments received by the NAC, go to http://www.regulations.gov, and search for the Docket ID listed above.

A public comment period will be held on Wednesday, May 11 from 2:50 p.m. to 3:10 p.m. CDT. All speakers must limit their comments to 3 minutes. Comments should be addressed to the committee. Any comments not related to the agenda topics will not be considered by the NAC. To register to make remarks during the public comment period, contact the individual listed below by May 9, 2016. Please note that the public comment period may end before the time indicated, following the last call for comments.

FOR FURTHER INFORMATION CONTACT: Alexandra Woodruff, Designated Federal Officer, Office of the National Advisory Council, Federal Emergency Management Agency, 500 C Street SW., Washington, DC 20472-3184, telephone (202) 646-2700, fax (540) 504-2331, and email FEMA-NAC@fema.dhs.gov. The NAC Web site is: http://www.fema.gov/national-advisory-council.

SUPPLEMENTARY INFORMATION: Notice of this meeting is given under the Federal Advisory Committee Act, 5 U.S.C. Appendix.

The NAC advises the FEMA Administrator on all aspects of emergency management. The NAC incorporates state, local, and tribal government, and private sector input in the development and revision of FEMA plans and strategies. The NAC includes a cross-section of senior officials, emergency managers, and emergency response providers from state, local, and tribal governments, the private sector, and nongovernmental organizations.

Agenda: On Tuesday, May 10, the NAC will review FEMA's response from the NAC's February 2016 recommendations, receive briefings from FEMA Executive Staff (Office of Response and Recovery, National Preparedness Directorate, and Federal Insurance and Mitigation Administration), and a briefing on military support to FEMA.

On Wednesday, May 11, the NAC will hear from a FEMA Regional Administrator about activities in the FEMA Regions and engage in an open discussion with the FEMA Administrator. The three NAC subcommittees (Federal Insurance and Mitigation Subcommittee, Preparedness and Protection Subcommittee, and Response and Recovery Subcommittee) and the Spontaneous Volunteers Ad Hoc Subcommittee will provide reports to the NAC about their work, whereupon the NAC will deliberate on any recommendations presented in the subcommittees' reports, and, if appropriate, vote on recommendations for the FEMA Administrator. The subcommittee reports will be posted on the NAC Web page by 8:30 a.m. on Wednesday, May 11. The NAC will receive a briefing about Supply Chain Resiliency and engage in a facilitated discussion of the status of previously submitted NAC recommendations.

On Thursday, May 12, the NAC will review agreed upon recommendations and confirm charges for the subcommittees as well as engage in an open discussion with the FEMA Deputy Administrator.

The full agenda and any related documents for this meeting will be posted by Friday, May 6 on the NAC Web site at http://www.fema.gov/national-advisory-council.

Dated: April 20, 2016.
W. Craig Fugate,
Administrator, Federal Emergency Management Agency.

[FR Doc. 2016-09557 Filed 4-22-16; 8:45 am]

BILLING CODE 9111-48-P